DEPARTMENT OF DEFENSE

Department of the Army, Corps of Engineers

Notice of Mississippi River Commission Public Meetings for Spring 2026

AGENCY: Corps of Engineers, Department of the Army, DoD.

ACTION: Notice.

SUMMARY: The Mississippi River Commission will hold its spring 2026 meetings at the below locations, dates, and times.

DATES: March 23, 2026, 9:00 a.m. to 12:30 p.m., New Madrid, Missouri; March 24, 2026, 9:00 a.m. to 12:30 p.m., Memphis, Tennessee; March 26, 2026, 9:00 a.m. to 12:30 p.m., Vicksburg, MS; March 27, 2026, 9:00 a.m. to 12:30 p.m., Baton Rouge, LA. Locations for the public meetings will take place on the Motor Vessel MISSISSIPPI. Additional details for the public meetings are included in the Supplementary Information section of this notice.

ADDRESSES: The physical address for the Mississippi River Commission is 1400 Walnut Street, Vicksburg, Mississippi 39180.

FOR FURTHER INFORMATION CONTACT: Mr. Drew Smith, Acting Executive Director, Mississippi River Commission at 601-634-7023, or Ms. Edie Whittington, Mississippi River Commission, Administrative Officer at 601-634-5768 or email `edie.whittington@usace.army.mil'. Also see: https://www.mvd.usace.army.mil/About/Mississippi-River-Commission-MRC/Public-Meeting-Schedule/

SUPPLEMENTARY INFORMATION:

Status of all meetings below: Open to the public.

Matters to be considered at all meetings below: (1) Summary report by the President of the Mississippi River Commission (Commission) on national and regional issues affecting the U.S. Army Corps of Engineers (Corps) and Commission programs and projects on the Mississippi River and its tributaries; (2) District Commander's overview for the Commission on current project issues in the respective area; and (3) Presentations to the Commission by local organizations and members of the public giving views or comments on any issue affecting the programs or projects of the Commission and the Corps.

Time, date and place: 9:00 a.m., March 23, 2026. On board the Motor Vessel MISSISSIPPI at New Madrid, Missouri—City Front

Time, date and place: 9:00 a.m., March 24, 2026. On board the Motor Vessel MISSISSIPPI at Memphis, Tennessee—Mud Island River Park Landing.

Time, date and place: 9:00 a.m., March 26, 2026. On board the Motor Vessel MISSISSIPPI at Vicksburg, Mississippi—City Front.

Time, date and place: 9:00 a.m., March 27, 2026. On board the Motor Vessel MISSISSIPPI at Baton Rouge, Louisiana—City Dock above USS Kidd.

Kimberly A. Peeples,
Major General, USA, President, Mississippi River Commission.

[FR Doc. 2026-03643 Filed 2-23-26; 8:45 am]

BILLING CODE 3720-58-P